DEPARTMENT OF DEFENSE

Department of the Army

Privacy Act of 1974; System of Records

AGENCY: Department of the Army, DoD.

ACTION: Notice to Amend and Delete Systems of Records.

SUMMARY: The Department of the Army is proposing to delete four systems of records notices and amend one in its existing inventory of records systems subject to the Privacy Act of 1974, (5 U.S.C. 552a), as amended.

DATES: This proposed action will be effective without further notice on January 17, 2001 unless comments are received which result in a contrary determination.

ADDRESSES: Records Management Division, U.S. Army Records Management and Declassification Agency, ATTN: TAPC-PDD-RP, Stop 5603, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records systems being amended are set forth below followed by the notice, as amended, published in its entirety. The proposed amendments are not within the purview of subsection (r) of the Privacy Act of 1974, (5 U.S.C. 552a), as amended, which requires the submission of a new or altered system report.

Dated: December 12, 2000.
Patricia L. Toppings,
Alternate OSD Federal Register Liaison Officer, Department of Defense.

Deletions:

A0600-8 NGB

System name:

Standard Installation/Division Personnel System Army National Guard (SIDPERS-ARNG) (October 18, 1999, 64 FR 56195).

Reason:

Records have been incorporated into A0600-8-23 DAPE, Standard Installation/Division Personnel System.

A0600-8b TAPC

System name:

Standard Installation/Division Personnel System (SIDPERS) (February 22, 1993, 58 FR 10002).

Reason:

Records have been incorporated into A0600-8-23 DAPE, Standard Installation/Division Personnel System.

A0608-4 DAMO

System name:

Trophy Firearm Registration (February 22, 1993, 58 FR 10002).

Reason:

These records are no longer maintained, and have been destroyed.

A0640 ARPC

System name:

Personnel Management/Action Officer Files (December 23, 1997, 62 FR 67055).

Reason:

ARPC no longer maintains these records. Records formerly in this system of records can now be found in A0640-10a, Military Personnel Records Jacket (MPRJ) and A0640-10b TAPC, Official Military Personnel.

Amendment:

A0195-2a USACIDC

System name:

Source Register (July 7, 1997, 62 FR 36266).

Changes:

* * * * *

Categories of records in the system:

Add to entry ‘CID Form 20 voucher’.

* * * * *

Storage:

Delete entry and replace with “Paper files and electronic storage media.”

Retrievability:

Delete entry and replace with “By individual’s name, source control number, and Social Security Number.”

* * * * *

Retention and disposal:

Delete first sentence.

* * * * *

A0195-2a USACIDC

System name:

Source Register.

System location:

Primary location:

Headquarters, U.S. Army Criminal Investigation Command, 6010 6th Street, Building 1465, Fort Belvoir, VA 22060-5506.

Segments of the system exist at subordinate elements of the U.S. Army Criminal Investigation Command which exercise local administrative and technical control of sources. Official mailing addresses are published as an appendix to the Army's compilation of systems of records notices.

Categories of individuals covered by the system:

All individuals, civilian or military, who are used as sources by the U.S. Army Criminal Investigation Command.

Categories of records in the system:

Files contain cross indexed code numbers, name, race, military occupational specialty, sex, date and place of birth, home of record, educational level, area of utilization, civilian employment, handler, letters, vouchers, personal history, performance, citizenship, marital status, physical description, criminal history, expertise, talents, actions taken, other related personal data and CID Form 20 voucher.

Authority for maintenance of the system:

10 U.S.C. 3013, Secretary of the Army; Army Regulation 195-2, Criminal Investigation Activities; and E.O. 9397 (SSN).

Purpose(s):

To monitor performance and reliability; to check utilization of sources; to maintain an accounting of expenditures connected with the sources; to answer Congressional inquiries concerning misuse or mistreatment of sources or those who allege they are not sources; to document fear-of-life transfers for military sources.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to foreign countries under the provisions of Status of Forces Agreements or Treaties.

The DoD “Blanket Routine Uses” set forth at the beginning of the Army's compilation of systems of records notices also apply to this system.

Policies and practices for storing, retrieving, accessing, retaining, and disposing of records in the system:

Storage:

Paper files and electronic storage media.

Retrievability:

By individual's name, source control number and Social Security Number.

Safeguards:

All information is stored in locked containers within secured buildings; information is accessible only by designated officials having a need therefore in the performance of official duties.

Retention and disposal:

At Headquarters, U.S. Army Criminal Investigation Command, information concerning other sources is retained for 10 years after termination of source's service. At locations of U.S. Army Criminal Investigation Command, source files and cross-index cards are retained for 3 years after termination of source's service; master source cards are retained until no longer needed to control or facilitate work. Destruction is by shredding. Retention period for automated records varies according to Headquarters, U.S. Army Criminal Investigation Command and field element, but total retention may not exceed 10 years.

System manager(s) and address:

Commander, Headquarters, U.S. Army Criminal Investigation Command, 6010 6th Street, Building 1465, Fort Belvoir, VA 22060-5506.

Notification procedure:

Individuals seeking to determine whether information about themselves is contained in this system should address written inquiries to the Commander, Headquarters, U.S. Army Criminal Investigation Command, 6010 6th Street, Building 1465, Fort Belvoir, VA 22060-5506.

For verification purposes, individual should provide the full name, Social Security Number, date of birth, current address, timeframe of being a source, and signature.

Record access procedures:

Individual seeking access to information about themselves contained in this system should address written inquiries to the Commander, Headquarters, U.S. Army Criminal Investigation Command, 6010 6th Street, Building 1465, Fort Belvoir, VA 22060-5506.

For verification purposes, individual should provide the full name, Social Security Number, date of birth, current address, timeframe of being a source, and signature.

Contesting record procedures:

The Army's rules for accessing records, and for contesting contents and appealing initial agency determinations are contained in Army Regulation 340-21; 32 CFR part 505; or may be obtained from the system manager.

Record source categories:

From the military personnel records if the source is military, or the civilian personnel records if source is a civilian employee.

Exemptions claimed for the system:

Parts of this system may be exempt pursuant to 5 U.S.C. 552a(j)(2) if the information is compiled and maintained by a component of the agency which performs as its principle function any activity pertaining to the enforcement of criminal laws.

An exemption rule for this system has been promulgated in accordance with requirements of 5 U.S.C. 553(b)(1), (2), and (3), (c) and (e) and published in 32 CFR part 505. For additional information contact the system manager.

[FR Doc. 00-32060 Filed 12-15-00; 8:45 am]

BILLING CODE 5001-10-P